DEPARTMENT OF COMMERCE

National Oceanic and Atmospheric Administration

50 CFR Part 622

[Docket No. 100812345-1677-01]

RIN 0648-AY73

Fisheries of the Caribbean, Gulf of Mexico, and South Atlantic; Comprehensive Annual Catch Limit Amendment for the South Atlantic

AGENCY: National Marine Fisheries Service (NMFS), National Oceanic and Atmospheric Administration (NOAA), Commerce.

ACTION: Proposed rule; request for comments.

SUMMARY: NMFS proposes regulations to implement the Comprehensive Annual Catch Limit Amendment (Comprehensive ACL Amendment) to the Fishery Management Plans (FMPs) for the Snapper-Grouper Fishery of the South Atlantic Region (Snapper-Grouper), the Golden Crab Fishery of the South Atlantic Region (Golden Crab), the Dolphin and Wahoo Fishery off the Atlantic States (Dolphin and Wahoo), and the Pelagic Sargassum Habitat of the South Atlantic Region (Sargassum) as prepared and submitted by the South Atlantic Fishery Management Council (Council). If implemented, this rule would specify annual catch limits (ACLs) and accountability measures (AMs) for species in the FMPs for Snapper-Grouper, Dolphin and Wahoo, and Golden Crab. The rule would also describe the current terminology and measures in place in the Sargassum FMP that are equivalent to an ACL and AMs. For Sargassum, the rule would not specifically set an ACL because there is currently a commercial quota in place which functions as an ACL, and there are commercial closure provisions in the event the quota is met or projected to be met which functions as an AM. In addition, the rule would revise the snapper-grouper fishery management unit (FMU), including the removal of some species, designation of ecosystem component (EC) species, and the development of species groups. This rule would establish a daily vessel limit for the recreational possession of wreckfish, create a closed season for the wreckfish recreational sector, prohibit recreational bag limit sales of dolphin from for-hire vessels, and set a minimum size limit for dolphin off most of the South Atlantic states. The intent of this rule is to specify ACLs for species not undergoing overfishing while maintaining catch levels consistent with achieving optimum yield (OY) for the resource.

DATES: Written comments must be received on or before December 19, 2011.

ADDRESSES: You may submit comments on the proposed rule identified by “NOAA-NMFS-2011-0087” by any of the following methods:

• Electronic submissions: Submit electronic comments via the Federal e-Rulemaking Portal: http://www.regulations.gov. Follow the instructions for submitting comments.

• Mail: Nikhil Mehta, Southeast Regional Office, NMFS, 263 13th Avenue South, St. Petersburg, FL 33701.

Instructions: All comments received are a part of the public record and will generally be posted to http://www.regulations.gov without change. All Personal Identifying Information (for example, name, address, etc.) voluntarily submitted by the commenter may be publicly accessible. Do not submit Confidential Business Information or otherwise sensitive or protected information.

To submit comments through the Federal e-Rulemaking Portal: http://www.regulations.gov, click on “submit a comment,” then enter “NOAA-NMFS-2011-0087” in the keyword search and click on “search”. To view posted comments during the comment period, enter “NOAA-NMFS-2011-0087” in the keyword search and click on “search.” NMFS will accept anonymous comments (enter N/A in the required field if you wish to remain anonymous). You may submit attachments to electronic comments in Microsoft Word, Excel, WordPerfect, or Adobe PDF file formats only.

Comments through means not specified in this rule will not be accepted.

Electronic copies of the Comprehensive ACL Amendment, which includes a final environmental impact statement (FEIS), a regulatory flexibility analysis, and a regulatory impact review, may be obtained from the Southeast Regional Office Web Site at http://sero.nmfs.noaa.gov/sf/pdfs/Comp%20ACL%20Am%20101411%20FINAL.pdf.

FOR FURTHER INFORMATION CONTACT: Nikhil Mehta, Southeast Regional Office, NMFS, telephone: (727) 824-5305; email: nikhil.mehta@noaa.gov.

SUPPLEMENTARY INFORMATION: The fisheries for snapper-grouper, golden crab, dolphin and wahoo, and pelagic sargassum habitat of the South Atlantic are managed under their respective FMPs. The FMPs were prepared by the Council and are implemented through regulations at 50 CFR part 622 under the authority of the Magnuson-Stevens Fishery Conservation and Management Act (Magnuson-Stevens Act).

Background

The 2006 revisions to the Magnuson-Stevens Act require that by 2011, for fisheries determined by the Secretary of Commerce (Secretary) to not be subject to overfishing, ACLs and AMs must be established at a level that prevents overfishing and helps to achieve OY. These mandates are intended to ensure fishery resources are managed for the greatest overall benefit to the nation, particularly with respect to providing food production and recreational opportunities, and protecting marine ecosystems.

An ACL is the level of annual catch of a stock or stock complex that is set to prevent overfishing from occurring. An ACL that is met or exceeded serves as the basis for triggering an AM. ACLs may incorporate management and scientific uncertainty, and take into account the amount of data available and level of vulnerability to overfishing for each species. ACLs established through this rule would be defined in either gutted or round weight. Separate ACLs may be established for each sector of a fishery, i.e., commercial and recreational. However, the combined total of all sector ACLs may not exceed the total ACL for a species or stock complex. For stocks for which an ACL would be set through this rulemaking, none are currently overfished, in a rebuilding plan, or undergoing overfishing.

Accountability measures may be used for both in-season and post-season management of a stock to control or mitigate harvest levels with respect to the ACL. This rule would establish in-season and post-season AMs for the commercial sector, and in-season AMs for the recreational sector based upon the amount of harvest in the previous fishing year that would maintain catch levels within the ACLs or restore catch levels to those limits if exceeded.

Management Measures Contained in This Proposed Rule

Snapper-Grouper

This rule would identify snapper-grouper species that do not need Federal management and can therefore be removed from the Snapper-Grouper FMP; designate selected snapper-grouper species as EC species; and establish species groups for selected snapper-grouper species for more effective management. The rule would also establish ACLs for the commercial and recreational sectors. Additionally, the rule would establish AMs, which manage harvest within an applicable quota or ACL and manage future harvest, should a species or species group ACL be exceeded. Furthermore, this rule would establish a daily vessel limit for the recreational possession of wreckfish and create a closed season for the wreckfish recreational sector.

Designation of Species To Be Removed From the FMP

There are currently 73 species in the Snapper-Grouper FMP. Many uncommonly harvested species were originally placed in the FMP because they were considered to be sub-tropical/tropical in distribution, and therefore limited in their range to south of Cape Hatteras, North Carolina, on the east coast of the U.S.; and were part of a large multi-species fishery where co-occurring species were taken together with the same gear in the same area. The Council evaluated whether all species currently included in the snapper-grouper fishery management unit (FMU) are in need of Federal conservation and management.

In deciding whether a species needed continued management at the Federal level through an FMP, the Council considered the following criteria: The importance of the fishery to the Nation and the regional economy; whether being in an FMP can improve or maintain the condition of the stock; the extent to which the fishery could be or already is adequately managed by other entities; whether inclusion in an FMP can resolve competing interests or conflicts among user groups; whether inclusion in an FMP can produce more efficient utilization with respect to the economic condition of a fishery; whether inclusion in an FMP can foster the orderly growth of a developing fishery; and a consideration of the costs associated with the inclusion of a stock within an FMP balanced against the benefits (50 CFR 600.340(b)(2)).

Based on these criteria, the Council determined 13 species should be removed from the Snapper-Grouper FMP. This rule would remove black margate, bluestriped grunt, crevalle jack, French grunt, grass porgy, porkfish, puddingwife, queen triggerfish, sheepshead, smallmouth grunt, Spanish grunt, tiger grouper, and yellow jack from the Snapper-Grouper FMP. Of the 13 species to be removed, the majority have over 95 percent of their landings reported in state waters. Also, three of these species (porkfish, puddingwife, and queen triggerfish) are managed by Florida in Florida waters under the Florida Marine Life rule which contains more stringent protections for these species than current Federal regulations. In addition, two species (tiger grouper and smallmouth grunt) identified for removal have no reported commercial or recreational landings in Federal waters from 2005 to 2009.

Designation of Ecosystem Component Species in the FMP

The Magnuson-Stevens Act National Standard 1 Guidelines describe the criteria to be considered to designate an EC species (50 CFR 600.310(d)(5)). According to these criteria, EC species should be a non-target species; not be determined to be subject to overfishing, approaching overfished, or overfished; not likely to become subject to overfishing or overfished in the absence of conservation and management measures; and not generally retained for sale or personal use. Based on an evaluation of the criteria, the Council determined six species should be designated as EC species. This rule would designate bank sea bass, cottonwick, longspine porgy, ocean triggerfish, rock sea bass, and schoolmaster as EC species within the Snapper-Grouper FMP. The designation of these species as EC species would retain them in the Snapper-Grouper FMP, but they are not required to have an ACL or AM (50 CFR 600.310(c) and (d)). These EC species would also not be subject to any other proposed management actions within the Comprehensive ACL Amendment and would not be subject to other Federal management measures such as recreational bag limits and size limits. Where those types of management measures are already in place, this rule would remove those applicable Federal regulations. Of the species proposed to be designated as EC species, all are currently included in the aggregate snapper-grouper recreational bag limit and the schoolmaster has current size limit regulations. The species that would be designated as EC species met at least three out of the four National Standard 1 criteria for EC species. These six species are generally not retained because of their small size and the greater availability of a higher quality co-occurring species, and their commercial and recreation landings are low. No other species that are proposed to be retained within the Snapper-Grouper FMP and FMU meet the previously described EC designation criteria.

Species Groupings

The Magnuson-Stevens Act National Standard 1 Guidelines state that stocks may be grouped into complexes for various reasons, including whether the stocks cannot be targeted independently of one another in a multi-species fishery, there are not sufficient data to measure their status relative to established status determination criteria, or when it is not feasible for fishermen to distinguish individual stocks among their catch (50 CFR 600.310(d)(8)). A species grouping or complex means a group of stocks that are sufficiently similar in geographic distribution, life history, and vulnerabilities to the fishery such that the impact of management actions on the stocks is similar. The Council decided to establish species group or complex ACLs for selected snapper-grouper species within the Comprehensive ACL Amendment. Complexes for species groups would be established using associations based on life history, catch statistics from commercial logbook and observer data, recreational headboat logbooks and private/charter surveys, and fishery-independent data. Detailed quantitative analyses including productivity and susceptibility analysis and multivariate statistical analysis were used to identify stock associations. These identified associations between stocks were then used to develop complexes for unassessed stocks. The rule would revise the current snapper-grouper species grouping, and place selected snapper-grouper species into the complexes for: Deep-water species (yellowedge grouper, blueline tilefish, silk snapper, misty grouper, sand tilefish, queen snapper, black snapper, and blackfin snapper); shallow-water groupers (red hind, rock hind, yellowmouth grouper, yellowfin grouper, coney, and graysby); snappers (gray snapper, lane snapper, cubera snapper, dog snapper, and mahogany snapper), jacks (almaco jack, banded rudderfish, and lesser amberjack), grunts (white grunt, sailors choice, tomtate, and margate), and porgies (jolthead porgy, knobbed porgy, saucereye porgy, scup, and whitebone porgy). An ACL and AM would be specified for each complex. Heavily targeted stocks, stocks with assessments, stocks with fishery closures where the ACL equals zero, or stocks that did not fall into any complex grouping would be managed by individual ACLs. Species that would not be included in species groups but for which individual ACLs would be established are black grouper, wreckfish, Atlantic spadefish, greater amberjack, scamp, red porgy (recreational sector only), hogfish, yellowtail snapper, blue runner, bar jack, gray triggerfish, and mutton snapper.

ACLs

This rule would assign initial ACLs for each of the species or species group or complex retained for Federal management in the Comprehensive ACL Amendment, excluding EC species. The ACLs proposed for these selected snapper-grouper species or species groups are available at § 622.49(b) in the regulatory text section within this proposed rule. For selected snapper-grouper species or species groups that would have an ACL established through this rule, the ACL would be equal to both the OY and the allowable biological catch (ABC).

The South Atlantic Council specified OY as “ACL is equal to OY is equal to ABC”, for species in the Comprehensive ACL Amendment, since none of the species are listed as overfished or undergoing overfishing, and the ABC control rules, developed with the Council's Scientific and Statistical Committee (SSC), incorporate uncertainty in the specification of the ABCs. This rule would specify an ACL for species in both the commercial and recreational sectors, except for red porgy. For red porgy, the rule would establish an ACL for red porgy for the recreational sector only, because a commercial quota is already in place for red porgy and functions as the equivalent of a commercial ACL. The recreational ACL proposed for red porgy is available at § 622.49(b) in the regulatory text section within this proposed rule. The commercial quota for red porgy is already in place and is available at § 622.42(e).

For wreckfish specifically, a commercial quota is in place and would be reduced through this rule. The commercial ACL that would be established through this rule would be equal to the revised commercial quota. This rule would also establish an ACL for the wreckfish recreational sector. The recreational ACL proposed for wreckfish is available § 622.49(b) in the regulatory text section within this proposed rule. The revised commercial quota proposed for wreckfish is available at § 622.42(f) in the regulatory text section within this proposed rule.

AMs

For the commercial sector, excluding wreckfish, if the commercial ACL for a species or species group is exceeded during a fishing year, then the sector would be closed for the remainder of that fishing year for that specific species or species group. If the ACL for a species group is exceeded, all species contained within that group would be subject to their respective group AM. If a species, or at least a single member of a species group is designated as overfished, and the commercial ACL is exceeded, then during the following fishing year, the commercial sector ACL would be reduced by the amount of the commercial ACL overage in the prior fishing year. For red porgy, the commercial quota closure provisions function as the equivalent to an AM in the event that the red porgy commercial quota is exceeded in a fishing year.

The wreckfish commercial sector is managed under the individual transferrable quota (ITQ) program and this rule would make the ITQ program itself the AM for the commercial sector because commercial landings are closely monitored and ITQ participants are limited to their specific ITQ allocation each fishing year.

For the recreational sector, if the recreational ACL is exceeded for a species or species group in a fishing year, then during the next fishing year the RA would monitor the recreational landings for a persistence in increased landings, and using the best scientific information available reduce the length of the recreational fishing season as necessary to ensure the recreational landings do not exceed the recreational ACL.

Wreckfish Management Measures

This rule would implement a one wreckfish per vessel daily recreational limit and a recreational wreckfish closed season of January 1 through June 30, and September 1 through December 31, each year.

Wreckfish spawn during December through May with peak spawning occurring during February and March. The establishment of a January through June closed season for the wreckfish recreational sector could provide a greater biological benefit to the stock. The closed seasons of January through June and September through December, and the subsequent ability to recreationally harvest wreckfish during the months of July and August, also provides an additional opportunity for recreational fishermen to harvest wreckfish during the summer months, when weather conditions are more favorable offshore for anglers who may target wreckfish far offshore.

Dolphin and Wahoo

This rule would specify initial ACLs and AMs for dolphin and wahoo. The ACLs proposed for dolphin and wahoo are available at § 622.49(e) and (f) in the regulatory text section within this proposed rule. Additional management measures for dolphin are also proposed that would prohibit recreational bag limit sales of dolphin harvested from for-hire vessels, and set a minimum size limit for dolphin off most of the South Atlantic states.

ACLs

This rule would assign initial ACLs for dolphin and wahoo. For the ACLs established through this rule, the ACL would be equal to both the OY and the ABC. The South Atlantic Council specified OY as “ACL is equal to OY is equal to ABC”, for species in the Comprehensive ACL Amendment, since none of the species are listed as overfished or undergoing overfishing, and the ABC control rules, developed with the Council's SSC, incorporate uncertainty in the specification of the ABCs. ACLs would be specified for species in both the commercial and recreational sectors.

AMs

For the commercial sector, if the commercial ACL is exceeded during a fishing year, then the commercial sector would be closed for the remainder of that fishing year for that species. If a species is designated as overfished, and the commercial ACL is exceeded, then during the following fishing year, the commercial sector ACL would be reduced by the amount of the commercial ACL overage from the prior fishing year.

For the recreational sector, if the recreational ACL is exceeded for a species in a fishing year, then during the next fishing year the RA would monitor the recreational landings for a persistence in increased landings, and using the best scientific information available, reduce the length of the recreational fishing season as necessary to ensure the recreational landings do not exceed the recreational ACL.

Dolphin Bag Limit Sales

This rule would prohibit recreational bag limit sales of dolphin harvested by persons while onboard for-hire vessels. The prohibition of recreational bag limit sales of dolphin harvested by people on for-hire vessels would ensure that the Federal regulations are fair and equitable by making sure that fish harvested by the recreational sector are not counted toward commercial quotas through submitted dealer reports and that total landings data are accurate. Accordingly, this rule would prohibit the sale of dolphin harvested or possessed under the bag limit by a vessel for which a Federal charter vessel/headboat permit for Atlantic dolphin and wahoo has been issued in the Atlantic EEZ.

Dolphin Minimum Size Limit

This rule would establish a minimum size limit for dolphin of 20 inches (50.8 cm) fork length to include the Federal waters off South Carolina. Currently, the dolphin minimum size limit is 20 inches (50.8 cm) fork length, for the Federal waters off Florida and Georgia. This rule would extend the applicability of that size limit from Florida through South Carolina to ensure consistency in the regulations as well as help prevent large scale harvest of very small dolphin.

Golden Crab

This rule would specify an ACL and an AM for golden crab. ACL. This rule would assign an initial ACL for golden crab. The ACL proposed for golden crab is available at § 622.49(g) in the regulatory text section within this proposed rule. The ACL would be equal to both the OY and the ABC. The South Atlantic Council specified OY as “ACL is equal to OY is equal to ABC”, for species in the Comprehensive ACL Amendment, since none of the species are listed as overfished or undergoing overfishing, and the ABC control rules, developed with the Council's SSC, incorporate uncertainty in the specification of the ABCs. The ACL would only be specified for the commercial sector of the golden crab fishery. There is not a recreational sector of the golden crab fishery and there are no identified golden crab recreational fishers. Therefore, a recreational ACL would not be established through this rule.

AMs

If the golden crab commercial sector exceeds the ACL during a fishing year, then the sector would be closed for the remainder of that fishing year. If, at a later date golden crab were to be designated as designated as overfished, and the commercial ACL was exceeded, then during the following fishing year, the sector ACL would be reduced by the amount of the commercial ACL overage from the prior fishing year.

Measures Contained in the Comprehensive ACL Amendment That Are Not in This Proposed Rule

The Comprehensive ACL Amendment also contains actions that are not specifically addressed through this rulemaking. These items include specifying ABC control rules, allocations for the commercial and recreational sectors, and jurisdictional allocations between the South Atlantic Council and the Gulf of Mexico Fishery Management Council (Gulf Council) for three species.

The Comprehensive ACL Amendment established ABC control rules for the Snapper-Grouper, Dolphin and Wahoo, Golden Crab, and Sargassum FMPs, which were used to establish ABC. These standard methods for determining the appropriate ABC would allow the Council's Scientific and Statistical Committee (SSC) to determine an objective and efficient assignment of ABC that takes into account scientific uncertainty regarding the harvest levels that would lead to overfishing. The quality and quantity of landings information varies according to the stock in question, thus different control rules are needed for data-adequate (assessed species) and data-poor (un-assessed species) stocks.

Additionally, the amendment would establish allocations for the commercial and recreational sectors for snapper-grouper species and dolphin and wahoo that do not currently have allocations specified.

The amendment also defines the apportionment for black grouper, yellowtail snapper, and mutton snapper across the jurisdictional boundary between the South Atlantic Council and the Gulf Council. These three species are managed separately by both the Gulf and South Atlantic Councils, but each has a stock assessment and ABC that covers both Council's areas of jurisdiction. Therefore, based on historical landings and recommendations from their respective SSC's, the two councils have agreed to apportion those overarching ABCs between them, and the amendment establishes ABC limits for the South Atlantic Council's area of jurisdiction.

Measures Contained in This Proposed Rule That Are Not in the Comprehensive ACL Amendment

This rule would revise the boundary coordinates for the harvest prohibition for pelagic Sargassum in the South Atlantic EEZ. The current northern boundary for this harvest prohibition defined at 50 CFR 622.35(g)(1)(i) is not consistent with the intercouncil boundary between the Mid-Atlantic Fishery Management Council and the South Atlantic Council as defined at 50 CFR 600.105. The Sargassum FMP specifies that the northern boundary for management for Sargassum in the South Atlantic EEZ is the Virginia/North Carolina boundary, which is the boundary between the Mid-Atlantic and South Atlantic Councils. Current regulations specify a latitude for the northern boundary for Sargassum that is approximately two nautical miles north of the intercouncil boundary between the Mid-Atlantic and South Atlantic Councils. Therefore, this rule would specify the latitude for the northern boundary of the management area for Sargassum, which is the boundary between the Mid-Atlantic and South Atlantic Councils.

Availability of the Comprehensive ACL Amendment

Additional background and rationale for the measures previously discussed are contained in the Comprehensive ACL Amendment. The availability of the Comprehensive ACL Amendment was announced in the Federal Register on October 20, 2011 (76 FR 65133). A minority report was submitted by dissenting South Atlantic Council members expressing concerns regarding some of the actions in the Comprehensive ACL Amendment. Written comments on the Comprehensive ACL Amendment must be received by December 19, 2011. All comments received on the amendment or the proposed rule during their respective comment periods will be addressed in the preamble to the final rule.

Classification

Pursuant to section 304(b)(1)(A) of the Magnuson-Stevens Act, the NMFS Assistant Administrator has determined that this proposed rule is consistent with the amendment, other provisions of the Magnuson-Stevens Act, and other applicable law, subject to further consideration after public comment.

This proposed rule has been determined to be not significant for purposes of Executive Order 12866.

The Chief Counsel for Regulation of the Department of Commerce certified to the Chief Counsel for Advocacy of the Small Business Administration that this rule, if adopted, would not have a significant economic impact on a substantial number of small entities. The factual basis for this determination is as follows.

The purpose of the amendment is to specify OFLs, ACLs, and AMs where needed to comply with Magnuson-Stevens Act requirements. The objective of this amendment is to implement measures expected to prevent overfishing and achieve OY while minimizing, to the extent practicable, adverse social and economic effects. The Magnuson-Stevens Act provides the statutory basis for this proposed rule. The management measures contained in this rule are described in the preamble and are not repeated here.

This rule is expected to directly affect commercial fishing vessels that have permits for, or landings of, South Atlantic snapper-grouper, including wreckfish, dolphin-wahoo, or golden crab. This rule is also expected to directly affect for-hire vessels that possess for-hire snapper-grouper or dolphin-wahoo permits in the South Atlantic. The Small Business Administration (SBA) has established size criteria for all major industry sectors in the U.S. including fish harvesters. A business involved in fish harvesting is classified as a small business if it is independently owned and operated, is not dominant in its field of operation (including its affiliates), and has combined annual receipts not in excess of $4.0 million (NAICS code 114111, finfish fishing) for all its affiliated operations worldwide.

In 2010, 598 vessels possessed snapper-grouper unlimited permits and 136 vessels possessed limited snapper-grouper permits. Thus, 732 vessels possessed limited access permits to harvest snapper-grouper species in the South Atlantic. Profit estimates for these vessels are not currently available. Between 2005 and 2009, the average gross revenue from landings of South Atlantic snapper-grouper was approximately $13.82 million, resulting in an average of $18,875 in gross revenue per permitted vessel. These vessels are expected to be directly affected by the actions to specify jurisdictional allocations for black grouper, yellowtail snapper, and mutton snapper, the action to establish ACLs for snapper-grouper species retained in the Snapper-Grouper FMP that currently do not have an ACL, and the action to establish sector allocations for snapper-grouper species currently without such allocations.

The commercial sector of the wreckfish fishery is managed under an Individual Fishing Quota (IFQ) program. In the 2009-10 fishing year there were 25 IFQ shareholders. However, between 2005 and 2009, only 5 vessels harvested wreckfish per year on average. All vessels harvesting wreckfish must possess a Federal commercial snapper-grouper permit. Profit estimates for these vessels are not currently available. Between 2005 and 2009, the average annual gross revenue from wreckfish landings was approximately $440,000, resulting in an average of $84,600 in annual gross revenue per vessel. These shareholders and vessels are expected to be directly affected by the actions to establish an ACL and sector allocations for wreckfish.

In 2010, 2,144 vessels possessed an open access dolphin-wahoo commercial permit. However, landings data indicate that, on average, only 602 and 224 vessels harvested dolphin and wahoo, respectively, between 2005 and 2009. Profit estimates for these vessels are not currently available. Annual gross revenue from dolphin and wahoo landings were approximately $1.58 million and $118,000, respectively, during this time period. Thus, annual gross revenue per vessel was approximately $2,628 and $527 on average for dolphin and wahoo, respectively. These vessels are expected to be directly affected by the actions to establish ACLs and sector allocations for dolphin and wahoo. The action to establish a commercial minimum size limit for dolphin would only directly affect vessels that harvest dolphin.

For the golden crab fishery, 11 vessels possessed a limited access permit in 2010. However, between 2005 and 2009, only 5 vessels harvested golden crab per year on average. Profit estimates for these vessels are not currently available. Between 2005 and 2009, the average annual gross revenue from golden crab landings was approximately $1.09 million, resulting in an average of $226,400 in annual gross revenue per vessel. These vessels are expected to be directly affected by the action to establish an ACL for golden crab.

Between 2005 and 2009, approximately 2,018 vessels possessed for-hire snapper-grouper permits. These vessels are expected to be directly affected by the actions to specify jurisdictional allocations for black grouper, yellowtail snapper, and mutton snapper, the action to establish ACLs for snapper-grouper species retained in the Snapper-Grouper FMP that currently do not have an ACL, the action to establish sector allocations for snapper-grouper species currently without such allocations, the actions to establish an ACL and sector allocations for wreckfish, and the actions to establish a daily vessel limit for the recreational possession of wreckfish and a closed season for the wreckfish recreational sector. Between 2005 and 2009, 2,012 vessels possessed for-hire dolphin-wahoo permits on average. These vessels are expected to be directly affected by the actions to establish ACLs and sector allocations for dolphin and wahoo, the action to prohibit sales of dolphin harvested under the bag limit by for-hire vessels, and the action to establish a recreational minimum size limit for dolphin. For-hire permits do not distinguish charterboats from headboats and thus the specific number of charterboats with for-hire dolphin-wahoo permits cannot be estimated. The number of for-hire vessels that landed snapper-grouper or dolphin-wahoo during this time period also cannot be estimated based on currently available data.

Producer surplus represents profit in the for-hire sector. However, producer estimates for snapper-grouper and dolphin-wahoo for-hire vessels are not currently available. A study on the for-hire sector in the Southeast Region presented two sets of average gross revenue estimates for the charter and headboat sectors in the South Atlantic. The first set of estimates was as follows: $51,000 for charterboats on the Atlantic coast of Florida; $60,135 for charterboats in North Carolina; $26,304 for charterboats in South Carolina; $56,551 for charterboats in Georgia; $140,714 for headboats in Florida; and $123,000 for headboats in the other South Atlantic states. The second set of estimates was as follows: $69,268 for charterboats and $299,551 for headboats across all South Atlantic states. Because the second set of estimates were considerably higher than the first set, a new approach was employed that generated the following estimates of average gross revenue: $73,365 for charterboats in North Carolina, $32,091 for charterboats in South Carolina; $68,992 for charterboats in Georgia; and $261,990 for headboats across all South Atlantic states. Data for Florida were unavailable in the second set of estimates.

Based on the figures above, all commercial fishing vessels expected to be directly affected by this proposed rule are determined, for the purpose of this analysis, to be small business entities. Similarly, and regardless of which estimates are used, based on these figures, all for-hire fishing vessels expected to be directly affected by this proposed rule are determined, for the purpose of this analysis, to be small business entities.

For the action to establish sector allocations in the snapper-grouper fishery, the economic effects to the commercial sector are estimated to be a loss of approximately $754,000 in gross revenue, representing a loss of approximately $1,030 in gross revenue per vessel. For the for-hire sector, effects on producer surplus cannot be estimated given available data. However, because the recreational ACL is being set above recent recreational landings, recreational landings are expected to increase. This increase in landings is expected to result in an increase of approximately $3.192 million in consumer surplus for the recreational sector, which in turnsuggests that producer surplus will also increase for vessels in the for-hire sector.

For the action to establish ACLs in the snapper-grouper fishery, except for the commercial wreckfish sector, the economic effects to the commercial sector are estimated to be a gain of approximately $2,134,725 in gross revenue, representing a gain of about $2,916 in gross revenue per vessel. For the for-hire sector, effects on producer surplus cannot be estimated given available data. However, because the recreational ACL is being set above recent recreational landings, recreational landings are expected to increase. This increase in landings is expected to result in a gain of approximately $16.72 million in consumer surplus for the recreational sector, which in turn suggests that producer surplus for for-hire vessels will likewise increase, with the increase potentially being substantial.

For the action to establish a sector allocation for wreckfish, the economic effects to the commercial sector are estimated to be a loss of approximately $29,000 in gross revenue, representing a loss of about $5,800 per vessel. For the for-hire sector, effects on producer surplus cannot be estimated given available data. However, because the recreational ACL is being set above recent recreational landings, recreational landings are expected to increase. This increase in landings is expected to result in a gain of approximately $31,000 in consumer surplus for the recreational sector, which in turn suggests that producer surplus may also increase for for-hire vessels.

For the action to establish an ACL for wreckfish, the economic effects to the commercial sector are estimated to be a potential loss of approximately $4.07 million in gross revenue. However, losses in gross revenue overstate losses in profits. Moreover, the potential loss in commercial gross revenue significantly overstates the expected actual loss in gross revenue. The potential loss in gross revenue is based on a reduction in the wreckfish commercial quota from 2 million lb (909,091 kg) to 237,500 lb (107,955 kg). The commercial sector only harvested approximately 165,000 lb (75,000 kg) on average between 2005 and 2009, which is below the proposed commercial quota. In addition, only 5 vessels have been harvesting wreckfish in recent years on average. It is highly unlikely these 5 vessels could generate landings of 2 million lb (909,091 kg). It is much more likely their landings will be closer to the proposed ACL, in which case the losses in gross revenue and profits may be minimal and possibly zero. However, because each wreckfish shareholder's annual allocation would be proportionally reduced as a result of the reduction in the commercial quota; it is possible that a few of these vessels' allocation of wreckfish would be reduced below their recent harvest levels, which would reduce their gross revenue and likely their profits.

For the actions to establish a daily vessel limit for the recreational possession of wreckfish and a closed season for the wreckfish recreational sector, the direct economic effects are expected to be minimal given that a recreational sector does not currently exist and the action to establish a recreational ACL of only 12,500 lb (5,682 kg).

For the action to establish a jurisdictional allocation for black grouper, commercial gross revenue is expected to increase by approximately $44,300, or by approximately $61 per vessel. For the for-hire sector, effects on producer surplus cannot be estimated given available data. However, because the recreational ACL is being set above recent recreational landings, recreational landings are expected to increase. This increase in landings is expected to result in a gain of approximately $291,600 in consumer surplus for the recreational sector, which in turn suggests that producer surplus for for-hire vessels would also increase.

For the action to establish a sector allocation for black grouper, the economic effects to the commercial sector are estimated to be a gain of approximately $124,000 in gross revenue for 2012, representing a gain of about $170 in gross revenue per vessel. For the for-hire sector, effects on producer surplus cannot be estimated given available data. However, because the recreational ACL is being set above recent recreational landings, recreational landings are expected to increase. This increase in landings is expected to result in a gain of approximately $468,000 in consumer surplus for the recreational sector in 2012, which in turn suggests that producer surplus would also increase for for-hire vessels in 2012.

For the action to establish an ACL for black grouper, the economic effects to the commercial sector are estimated to be a gain of approximately $538,000 in gross revenue, indicating a gain of about $735 in gross revenue per vessel. For the for-hire sector, effects on producer surplus cannot be estimated given available data. However, because the recreational ACL is being set above recent recreational landings, recreational landings are expected to increase. This increase in landings is expected to result in a gain of approximately $1.76 million in consumer surplus for the recreational sector, which in turn suggests that producer surplus for for-hire vessels would likewise increase.

For the action to establish a jurisdictional allocation for yellowtail snapper, commercial gross revenue is expected to increase by approximately $158,400, or by approximately $216 per vessel. For the for-hire sector, effects on producer surplus cannot be estimated given available data. However, because the recreational ACL is being set above recent recreational landings, recreational landings are expected to increase. This increase in landings is expected to result in a gain of approximately $601,200 in consumer surplus for the recreational sector, which in turn suggests that producer surplus for for-hire vessels would also increase.

For the action to establish a jurisdictional allocation for mutton snapper, the economic effects to the commercial sector are estimated to be a loss of approximately $18,000 in gross revenue for 2012, representing a loss of about $25 in gross revenue per vessel. For the for-hire sector, effects on producer surplus cannot be estimated given available data. However, because the recreational ACL is being set above recent recreational landings, recreational landings are expected to increase. This increase in landings is expected to result in a loss of approximately $397,600 in consumer surplus for the recreational sector in 2012, which in turn suggests that producer surplus may also decrease for for-hire vessels in 2012.

Thus, an increase in gross revenue of approximately $1.52 million, or approximately $2,080 per vessel, is expected as a result of all actions affecting commercial snapper-grouper vessels. Further, under all actions affecting for-hire snapper-grouper vessels, the expected increase in consumer surplus for the recreational sector is approximately $22.77 million. Although the effects on producer surplus for for-hire vessels cannot be estimated given available data, most of the recreational ACLs are being set significantly above recent recreational landings, and thus recreational landings are expected to increase. This increase in landings is expected to increase producer surplus, likely substantially, for for-hire vessels.

For the action to establish a sector allocation for dolphin, the economic effects to the commercial sector are estimated to be a loss of approximately $78,000 in gross revenue, representing a loss of about $130 in gross revenue per vessel. For the for-hire sector, effects on producer surplus cannot be estimated given available data. However, the recreational ACL is being set substantially above recent recreational landings, and thus recreational landings are expected to increase. This increase in landings is expected to result in a gain of at least $4.7 million in consumer surplus for the recreational sector, which in turn suggests that producer surplus would also increase, possibly substantially, for for-hire vessels.

For the action to establish an ACL for dolphin, the economic effects to the commercial sector are estimated to be a loss of approximately $78,000 in gross revenue. However, this loss is directly attributable to the proposed sector allocation, and thus no additional losses in gross revenue are expected as a result of this action. For the for-hire sector, effects on producer surplus cannot be estimated given available data. However, the recreational ACL is being set substantially above recent recreational landings, and thus recreational landings are expected to increase. This increase in landings is expected to result in a gain of at least $25.2 million in consumer surplus for the recreational sector, which in turn suggests that producer surplus would also increase, likely substantially, for for-hire vessels.

For the action to establish management measures for dolphin, a loss of $13,000 in gross revenue is expected as a result of the proposed commercial minimum size limit, representing a loss in gross revenue of approximately $22 per vessel. A loss in producer surplus to the for-hire sector of approximately $15,000 is expected as a result of the proposed recreational minimum size limit for dolphin. Because it is likely this action would only affect the 134 vessels with for-hire dolphin-wahoo permits in South Carolina, the loss in producer surplus per for-hire vessel is approximately $112.

The prohibition on bag limit sales by for-hire vessels is expected to result in a loss of approximately $71,000 in gross revenue, or by approximately $70 per for-hire vessel. Losses in gross revenue overstate losses in producer surplus. Thus, the expected loss in producer surplus per vessel would be less than $70.

For the action to establish a sector allocation for wahoo, because commercial landings are not expected to change, no economic effects on the commercial sector are expected. For the for-hire sector, effects on producer surplus cannot be estimated given available data. However, the recreational ACL is being set above recent recreational landings, and thus recreational landings are expected to increase. This increase in landings is expected to result in a gain of at least $894,000 in consumer surplus for the recreational sector, which in turn suggests that producer surplus may also increase for for-hire vessels.

For the action to establish an ACL for wahoo, because commercial landings are not expected to change, no economic effects on the commercial sector are expected. For the for-hire sector, effects on producer surplus cannot be estimated given available data. A gain of at least $894,000 in consumer surplus was estimated for the recreational sector. However, this gain is directly attributable to the proposed sector allocation, and thus no additional gains in producer surplus are expected as a result of this action.

For the action to establish an ACL for golden crab, the economic effects to the commercial sector are estimated to be a gain of approximately $94,000 in gross revenue, representing a gain of approximately $18,800 in gross revenue per vessel.

As a result of the information above, a reduction in profits for a substantial number of small entities is not expected. Because this rule, if implemented, is not expected to have a significant direct adverse economic effect on the profits of a substantial number of small entities, an initial regulatory flexibility analysis is not required and none has been prepared.

No duplicative, overlapping, or conflicting Federal rules have been identified. This rule would not establish any new reporting or record-keeping requirements. However, the AMs may constitute a new compliance requirement and are analyzed previously.

List of Subjects in 50 CFR Part 622

Fisheries, Fishing, Puerto Rico, Reporting and recordkeeping requirements, Virgin Islands.

Dated: November 23, 2011.
Eric C. Schwaab,
Assistant Administrator for Fisheries, National Marine Fisheries Service.

For the reasons set out in the preamble, 50 CFR part 622 is proposed to be amended as follows:

PART 622—FISHERIES OF THE CARIBBEAN, GULF, AND SOUTH ATLANTIC

1. The authority citation for part 622 continues to read as follows:

Authority: 16 U.S.C. 1801 et seq.

2. In § 622.1, paragraph (b), Table 1, footnote 4 is revised to read as follows:

§ 622.1 Purpose and Scope.

* * * * *

(b) * * *

Table 1.—FMPs Implemented Under Part 622

* * * * *

⁴ Black sea bass and scup are not managed by the FMP or regulated by this part north of 35°15.9′ N. lat., the latitude of Cape Hatteras Light, NC.

* * * * *

3. In § 622.2, the definition for “South Atlantic shallow-water grouper (SASWG)” is revised to read as follows:

§ 622.2 Definitions and acronyms.

* * * * *

South Atlantic shallow-water grouper (SASWG) means, in the South Atlantic, gag, black grouper, red grouper, scamp, red hind, rock hind, yellowmouth grouper, yellowfin grouper, graysby, and coney.

* * * * *

4. In § 622.4, the first sentence in paragraph (a)(2)(vii) is revised to read as follows:

§ 622.4 Permits and fees.

(a) * * *

(2) * * *

(vii) Wreckfish. For a person aboard a vessel to be eligible for exemption from the bag limit for wreckfish in or from the South Atlantic EEZ, to fish under a quota for wreckfish in or from the South Atlantic EEZ, or to sell wreckfish in or from the South Atlantic EEZ, a commercial vessel permit for wreckfish and a commercial permit for South Atlantic snapper-grouper must have been issued to the vessel and must be on board. * * *

* * * * *

5. In § 622.5, paragraphs (a)(1)(iv)(C)(2) and (c)(5)(iii) are revised to read as follows:

§ 622.5 Recordkeeping and reporting.

* * * * *

(a) * * *

(1) * * *

(iv) * * *

(C) * * *

(2) Make available to an authorized officer upon request all records of commercial offloadings, purchases, or sales of wreckfish.

* * * * *

(c) * * *

(5) * * *

(iii) A dealer who has been issued a dealer permit for wreckfish, as required under § 622.4(a)(4), must make available to an authorized officer upon request all records of commercial offloadings, purchases, or sales of wreckfish.

* * * * *

6. In § 622.15, paragraphs (c)(4) and (d)(3) and (4) are revised to read as follows:

§ 622.15 Wreckfish individual transferable quota (ITQ) system.

* * * * *

(c) * * *

(4) Wreckfish may not be possessed on board a fishing vessel that has been issued a commercial vessel permit for South Atlantic snapper-grouper and a commercial vessel permit for wreckfish—

(i) In an amount exceeding the total of the ITQ coupons on board the vessel; or

(ii) That does not have on board logbook forms for that fishing trip, as required under § 622.5(a)(1)(iv)(C)(1).

* * * * *

(d) * * *

(3) A wreckfish harvested by a vessel that has been issued a commercial vessel permit for South Atlantic snapper-grouper and a commercial vessel permit for wreckfish may be offloaded from a fishing vessel only between 8 a.m. and 5 p.m., local time.

(4) If a wreckfish harvested by a vessel that has been issued a commercial vessel permit for South Atlantic snapper-grouper and a commercial vessel permit for wreckfish is to be offloaded at a location other than a fixed facility of a dealer who holds a dealer permit for wreckfish, as required under § 622.4(a)(4), the wreckfish shareholder or the vessel operator must advise NMFS Office for Law Enforcement, Southeast Region, St. Petersburg, FL, by telephone (727) 824-5344, of the location not less than 24 hours prior to offloading.

7. In § 622.35, paragraph (g)(1)(i) is revised, the first sentence in paragraph (j) is revised, and paragraph (p) is added to read as follows:

§ 622.35 Atlantic EEZ seasonal and/or area closures.

* * * * *

(g) * * *

(1) * * *

(i) No person may harvest pelagic sargassum in the South Atlantic EEZ between 36°33′01.0″ N. lat. (directly east from the Virginia/North Carolina boundary) and 34° N. lat., within 100 nautical miles east of the North Carolina coast.

* * * * *

(j) * * * During January through April each year, no person may fish for, harvest, or possess in or from the South Atlantic EEZ any SASWG (gag, black grouper, red grouper, scamp, red hind, rock hind, yellowmouth grouper, yellowfin grouper, graysby, and coney). * * *

* * * * *

(p) Closures of the recreational sector for wreckfish. The recreational sector for wreckfish in or from the South Atlantic EEZ is closed from January 1 through June 30, and September 1 through December 31, each year. During a closure, the bag and possession limit for wreckfish in or from the South Atlantic EEZ is zero.

8. In § 622.37, paragraph (e)(1)(iii) and paragraph (h) are revised to read as follows:

§ 622.37 Size limits.

* * * * *

(e) * * *

(1) * * *

(iii) Blackfin, cubera, dog, gray, mahogany, queen, silk, and yellowtail snappers—12 inches (30.5 cm), TL.

* * * * *

(h) Dolphin in the Atlantic off Florida, Georgia, and South Carolina—20 inches (50.8 cm), fork length.

9. In § 622.39, paragraph (d)(1)(viii) is revised and paragraph (d)(1)(x) is added to read as follows:

§ 622.39 Bag and possession limits.

* * * * *

(d) * * *

(1) * * *

(viii) South Atlantic snapper-grouper, combined—20. However, excluded from this 20-fish bag limit are tomtate, blue runner, ecosystem component species (specified in Table 4 of Appendix A to part 622), and those specified in paragraphs (d)(1)(i) through (vii) and paragraphs (ix) and (x) of this section.

* * * * *

(x) No more than one fish per vessel may be a wreckfish.

* * * * *

10. In § 622.42, the first sentence of paragraph (f) is revised to read as follows:

§ 622.42 Quotas.

* * * * *

(f) Wreckfish. The quota for wreckfish applies to wreckfish shareholders, or their employees, contractors, or agents, and is 237,500 lb (107,728 kg), round weight. * * *

* * * * *

11. In § 622.43, paragraph (a)(6) is removed and reserved and the heading of paragraph (a)(5) is revised to read as follows:

§ 622.43 Closures.

(a) * * *

(5) South Atlantic gag, black grouper, red grouper, greater amberjack, snowy grouper, golden tilefish, vermilion snapper, black sea bass, red porgy, and wreckfish. * * *

* * * * *

12. In § 622.45, the first sentence in paragraph (d)(8) and paragraphs (i)(2) and (i)(3) are revised to read as follows:

§ 622.45 Restrictions on sale/purchase.

* * * * *

(d) * * *

(8) During January through April, no person may sell or purchase a gag, black grouper, red grouper, scamp, red hind, rock hind, yellowmouth grouper, yellowfin grouper, graysby, or coney harvested from or possessed in the South Atlantic EEZ or, if harvested or possessed by a vessel for which a valid Federal commercial permit for South Atlantic snapper-grouper has been issued, harvested from the South Atlantic, i.e., in state or Federal waters. * * *

* * * * *

(i) * * *

(2) In addition to the provisions of paragraph (i)(1) of this section, a person may not sell dolphin or wahoo possessed under the bag limit harvested in the Atlantic EEZ by a vessel while it is operating as a charter vessel or headboat. A dolphin or wahoo harvested or possessed by a vessel that is operating as a charter vessel or headboat with a Federal charter vessel/headboat permit for Atlantic dolphin and wahoo may not be purchased or sold if harvested from the Atlantic EEZ.

(3) Dolphin or wahoo harvested in the Atlantic EEZ may be purchased only by a dealer who has a permit for Atlantic dolphin and wahoo and only from a vessel authorized to sell dolphin or wahoo under paragraph (i)(1) of this section.

13. In § 622.49, the heading of § 622.49 is revised; and paragraphs (b)(7) through (24) and paragraphs (e) through (g) are added to read as follows:

§ 622.49 Annual Catch Limits (ACLs) and Accountability Measures (AMs).

(b) * * *

(7) Black grouper—(i) Commercial sector. (A) If commercial landings for black grouper, as estimated by the SRD, reach or are projected to reach the applicable ACL in paragraph (b)(7)(i)(C) of this section, the AA will file a notification with the Office of the Federal Register to close the commercial sector for the remainder of the fishing year. On and after the effective date of such a notification, all sale or purchase of black grouper is prohibited and harvest or possession of this species in or from the South Atlantic EEZ is limited to the bag and possession limit. This bag and possession limit applies in the South Atlantic on board a vessel for which a valid Federal charter vessel/headboat permit for South Atlantic snapper-grouper has been issued, without regard to where such species were harvested, i.e. in state or Federal waters.

(B) If commercial landings exceed the ACL, and black grouper are overfished, based on the most recent Status of U.S. Fisheries Report to Congress, the AA will file a notification with the Office of the Federal Register, at or near the beginning of the following fishing year to reduce the ACL for that following year by the amount of the overage in the prior fishing year.

(C) The applicable commercial ACLs, in round weight, are 90,575 lb (41,084 kg) for 2012, 94,571 lb (42,897 kg) for 2013, and 96,844 lb (43,928 kg) for 2014 and subsequent fishing years.

(ii) Recreational sector. If recreational landings for black grouper, as estimated by the SRD, exceed the applicable ACL, then during the following fishing year, recreational landings will be monitored for a persistence in increased landings and, if necessary, the AA will file a notification with the Office of the Federal Register, to reduce the length of the following recreational fishing season by the amount necessary to ensure recreational landings do not exceed the recreational ACL in the following fishing year. However, the length of the recreational season will also not be reduced during the following fishing year if the RA determines, using the best scientific information available, that a reduction in the length of the following fishing season is unnecessary. The applicable recreational ACLs, in round weight, are 155,020 lb (70,316 kg) for 2012, 161,859 lb (73,418 kg) for 2013, and 165,750 lb (75,183 kg) for 2014 and subsequent fishing years.

(iii) Without regard to overfished status, if the combined commercial and recreational sector ACLs, as estimated by the SRD, are exceeded in a fishing year, then during the following fishing year, the AA will file a notification with the Office of the Federal Register that both the commercial and recreational sectors will not have an increase in their respective sector ACLs during that following fishing year. The applicable combined commercial and recreational sector ACLs, in round weight are 245,595 lb (111,400 kg) for 2012, 256,430 lb (116,315 kg) for 2013, and 262,594 lb (119,111 kg) for 2014 and subsequent fishing years.

(8) Deep-water complex (including yellowedge grouper, blueline tilefish, silk snapper, misty grouper, queen snapper, sand tilefish, black snapper, and blackfin snapper)—(i) Commercial sector. (A) If commercial landings for the deep-water complex, as estimated by the SRD, reach or are projected to reach the commercial ACL of 343,869 lb (155,976 kg), round weight, the AA will file a notification with the Office of the Federal Register to close the commercial sector for this complex for the remainder of the fishing year. On and after the effective date of such a notification, all sale or purchase of deep-water complex species is prohibited and harvest or possession of these species in or from the South Atlantic EEZ is limited to the bag and possession limit. This bag and possession limit applies in the South Atlantic on board a vessel for which a valid Federal charter vessel/headboat permit for South Atlantic snapper-grouper has been issued, without regard to where such species were harvested, i.e. in state or Federal waters.

(B) If commercial landings exceed the ACL, and at least one of the species in the deep-water complex is overfished, based on the most recent Status of U.S. Fisheries Report to Congress, the AA will file a notification with the Office of the Federal Register, at or near the beginning of the following fishing year to reduce the ACL for that following year by the amount of the overage in the prior fishing year.

(ii) Recreational sector. If recreational landings for the deep-water complex, as estimated by the SRD, exceed the recreational ACL of 332,039 lb (150,610 kg), round weight, then during the following fishing year, recreational landings will be monitored for a persistence in increased landings and, if necessary, the AA will file a notification with the Office of the Federal Register, to reduce the length of the following recreational fishing season by the amount necessary to ensure recreational landings do not exceed the recreational ACL in the following fishing year. However, the length of the recreational season will also not be reduced during the following fishing year if the RA determines, using the best scientific information available, that a reduction in the length of the following fishing season is unnecessary.

(9) Scamp—(i) Commercial sector. (A) If commercial landings for scamp, as estimated by the SRD, reach or are projected to reach the commercial ACL of 341,636 lb (154,963 kg), round weight, the AA will file a notification with the Office of the Federal Register to close the commercial sector for the remainder of the fishing year. On and after the effective date of such a notification, all sale or purchase of scamp is prohibited and harvest or possession of this species in or from the South Atlantic EEZ is limited to the bag and possession limit. This bag and possession limit applies in the South Atlantic on board a vessel for which a valid Federal charter vessel/headboat permit for South Atlantic snapper-grouper has been issued, without regard to where such species were harvested, i.e. in state or Federal waters.

(B) If commercial landings exceed the ACL, and scamp are overfished, based on the most recent Status of U.S. Fisheries Report to Congress, the AA will file a notification with the Office of the Federal Register, at or near the beginning of the following fishing year to reduce the ACL for that following year by the amount of the overage in the prior fishing year.

(ii) Recreational sector. If recreational landings for scamp, as estimated by the SRD, exceed the recreational ACL of 150,936 lb (68,463 kg), round weight, then during the following fishing year, recreational landings will be monitored for a persistence in increased landings and, if necessary, the AA will file a notification with the Office of the Federal Register, to reduce the length of the following recreational fishing season by the amount necessary to ensure recreational landings do not exceed the recreational ACL in the following fishing year. However, the length of the recreational season will also not be reduced during the following fishing year if the RA determines, using the best scientific information available, that a reduction in the length of the following fishing season is unnecessary.

(10) Other SASWG combined (including red hind, rock hind, yellowmouth grouper, yellowfin grouper, coney, and graysby)—(i) Commercial sector. (A) If commercial landings for other SASWG, as estimated by the SRD, reach or are projected to reach the commercial ACL of 49,488 lb (22,447 kg), round weight, the AA will file a notification with the Office of the Federal Register to close the commercial sector for this complex for the remainder of the fishing year. On and after the effective date of such a notification, all sale or purchase of other SASWG is prohibited, and harvest or possession of these species in or from the South Atlantic EEZ is limited to the bag and possession limit. This bag and possession limit applies in the South Atlantic on board a vessel for which a valid Federal charter vessel/headboat permit for South Atlantic snapper-grouper has been issued, without regard to where such species were harvested, i.e. in state or Federal waters.

(B) If commercial landings exceed the ACL, and at least one of the species in the other SASWG complex is overfished, based on the most recent status of U.S. Fisheries Report to Congress, the AA will file a notification with the Office of the Federal Register, at or near the beginning of the following fishing year to reduce the ACL for that following year by the amount of the overage in the prior fishing year.

(ii) Recreational sector. If recreational landings for other SASWG, as estimated by the SRD, exceed the recreational ACL of 48,329 lb (21,922 kg), round weight, then during the following fishing year, recreational landings will be monitored for a persistence in increased landings and, if necessary, the AA will file a notification with the Office of the Federal Register, to reduce the length of the following recreational fishing season by the amount necessary to ensure recreational landings do not exceed the recreational ACL in the following fishing year. However, the length of the recreational season will also not be reduced during the following fishing year if the RA determines, using the best scientific information available, that a reduction in the length of the following fishing season is unnecessary.

(11) Greater amberjack—(i) Commercial sector. (A) If commercial landings for greater amberjack, as estimated by the SRD, reach or are projected to reach the quota specified in § 622.42(e)(3), the AA will file a notification with the Office of the Federal Register to close the commercial sector for the remainder of the fishing year.

(B) If commercial landings exceed the ACL, and greater amberjack are overfished, based on the most recent Status of U.S. Fisheries Report to Congress, the AA will file a notification with the Office of the Federal Register, at or near the beginning of the following fishing year to reduce the ACL for that following year by the amount of the overage in the prior fishing year.

(ii) Recreational sector. If recreational landings for greater amberjack, as estimated by the SRD, exceed the recreational ACL of 1,167,837 lb (529,722 kg), round weight, then during the following fishing year, recreational landings will be monitored for a persistence in increased landings and, if necessary, the AA will file a notification with the Office of the Federal Register, to reduce the length of the following recreational fishing season by the amount necessary to ensure recreational landings do not exceed the recreational ACL in the following fishing year. However, the length of the recreational season will also not be reduced during the following fishing year if the RA determines, using the best scientific information available, that a reduction in the length of the following fishing season is unnecessary.

(12) Lesser amberjack, almaco jack, and banded rudderfish complex, combined—(i) Commercial sector. (A) If commercial landings for lesser amberjack, almaco jack, and banded rudderfish, combined, as estimated by the SRD, reach or are projected to reach their combined commercial ACL of 193,999 lb (87,996 kg), round weight, the AA will file a notification with the Office of the Federal Register to close the commercial sector for this complex for the remainder of the fishing year. On and after the effective date of such a notification, all sale or purchase of lesser amberjack, almaco jack, and banded rudderfish is prohibited, and harvest or possession of these species in or from the South Atlantic EEZ is limited to the bag and possession limit. This bag and possession limit applies in the South Atlantic on board a vessel for which a valid Federal charter vessel/headboat permit for South Atlantic snapper-grouper has been issued, without regard to where such species were harvested, i.e. in state or Federal waters.

(B) If the combined commercial landings for the complex exceed the ACL, and at least one of the species in the complex (lesser amberjack, almaco jack, and banded rudderfish) is overfished, based on the most recent Status of U.S. Fisheries Report to Congress, the AA will file a notification with the Office of the Federal Register, at or near the beginning of the following fishing year to reduce the ACL for that following year by the amount of the overage in the prior fishing year.

(ii) Recreational sector. If recreational landings for the complex (lesser amberjack, almaco jack, and banded rudderfish), combined, as estimated by the SRD, exceed the recreational ACL of 261,490 lb (118,610 kg), round weight, then during the following fishing year, recreational landings will be monitored for a persistence in increased landings and, if necessary, the AA will file a notification with the Office of the Federal Register, to reduce the length of the following recreational fishing season by the amount necessary to ensure recreational landings do not exceed the recreational ACL in the following fishing year. However, the length of the recreational season will also not be reduced during the following fishing year if the RA determines, using the best scientific information available, that a reduction in the length of the following fishing season is unnecessary.

(13) Bar jack—(i) Commercial sector. (A) If commercial landings for bar jack, as estimated by the SRD, reach or are projected to reach the commercial ACL of 6,686 lb (3,033 kg), round weight, the AA will file a notification with the Office of the Federal Register to close the commercial sector for the remainder of the fishing year. On and after the effective date of such a notification, all sale or purchase of bar jack is prohibited and harvest or possession of this species in or from the South Atlantic EEZ is limited to the bag and possession limit. This bag and possession limit applies in the South Atlantic on board a vessel for which a valid Federal charter vessel/headboat permit for South Atlantic snapper-grouper has been issued, without regard to where such species were harvested, i.e. in state or Federal waters.

(B) If commercial landings exceed the ACL, and bar jack is overfished, based on the most recent Status of U.S. Fisheries Report to Congress, the AA will file a notification with the Office of the Federal Register, at or near the beginning of the following fishing year to reduce the ACL for that following year by the amount of the overage in the prior fishing year.

(ii) Recreational sector. If recreational landings for bar jack, as estimated by the SRD, exceed the recreational ACL of 13,834 lb (6,275 kg), round weight, then during the following fishing year, recreational landings will be monitored for a persistence in increased landings and, if necessary, the AA will file a notification with the Office of the Federal Register, to reduce the length of the following recreational fishing season by the amount necessary to ensure recreational landings do not exceed the recreational ACL in the following fishing year. However, the length of the recreational season will also not be reduced during the following fishing year if the RA determines, using the best scientific information available, that a reduction in the length of the following fishing season is unnecessary.

(14) Yellowtail snapper—(i) Commercial sector. (A) If commercial landings for yellowtail snapper, as estimated by the SRD, reach or are projected to reach the commercial ACL of 1,142,589 lb (518,270 kg), round weight, the AA will file a notification with the Office of the Federal Register to close the commercial sector for the remainder of the fishing year. On and after the effective date of such a notification, all sale or purchase of yellowtail snapper is prohibited and harvest or possession of this species in or from the South Atlantic EEZ is limited to the bag and possession limit. This bag and possession limit applies in the South Atlantic on board a vessel for which a valid Federal charter vessel/headboat permit for South Atlantic snapper-grouper has been issued, without regard to where such species were harvested, i.e. in state or Federal waters.

(B) If commercial landings exceed the ACL, and yellowtail snapper is overfished, based on the most recent Status of U.S. Fisheries Report to Congress, the AA will file a notification with the Office of the Federal Register, at or near the beginning of the following fishing year to reduce the ACL for that following year by the amount of the overage in the prior fishing year.

(ii) Recreational sector. If recreational landings for yellowtail snapper, as estimated by the SRD, exceed the recreational ACL of 1,031,286 lb (467,783 kg), round weight, then during the following fishing year, recreational landings will be monitored for a persistence in increased landings and, if necessary, the AA will file a notification with the Office of the Federal Register, to reduce the length of the following recreational fishing season by the amount necessary to ensure recreational landings do not exceed the recreational ACL in the following fishing year. However, the length of the recreational season will also not be reduced during the following fishing year if the RA determines, using the best scientific information available, that a reduction in the length of the following fishing season is unnecessary.

(15) Mutton snapper—(i) Commercial sector. (A) If commercial landings for mutton snapper, as estimated by the SRD, reach or are projected to reach the commercial ACL of 157,743 lb (71,551 kg), round weight, the AA will file a notification with the Office of the Federal Register to close the commercial sector for the remainder of the fishing year. On and after the effective date of such a notification, all sale or purchase of mutton snapper is prohibited and harvest or possession of this species in or from the South Atlantic EEZ is limited to the bag and possession limit. This bag and possession limit applies in the South Atlantic on board a vessel for which a valid Federal charter vessel/headboat permit for South Atlantic snapper-grouper has been issued, without regard to where such species were harvested, i.e. in state or Federal waters.

(B) If commercial landings exceed the ACL, and mutton snapper are overfished, based on the most recent Status of U.S. Fisheries Report to Congress, the AA will file a notification with the Office of the Federal Register, at or near the beginning of the following fishing year to reduce the ACL for that following year by the amount of the overage in the prior fishing year.

(ii) Recreational sector. If recreational landings for mutton snapper, as estimated by the SRD, exceed the recreational ACL of 768,857 lb (348,748 kg), round weight, then during the following fishing year, recreational landings will be monitored for a persistence in increased landings and, if necessary, the AA will file a notification with the Office of the Federal Register, to reduce the length of the following recreational fishing season by the amount necessary to ensure recreational landings do not exceed the recreational ACL in the following fishing year. However, the length of the recreational season will also not be reduced during the following fishing year if the RA determines, using the best scientific information available, that a reduction in the length of the following fishing season is unnecessary.

(16) Other snappers combined (including cubera snapper, gray snapper, lane snapper, dog snapper, and mahogany snapper) complex—(i) Commercial sector. (A) If commercial landings combined for this other snappers complex, as estimated by the SRD, reach or are projected to reach the combined complex commercial ACL of 204,552 lb (92,783 kg), round weight, the AA will file a notification with the Office of the Federal Register to close the commercial sector for this complex for the remainder of the fishing year. On and after the effective date of such a notification, all sale or purchase of the snappers in this complex is prohibited, and harvest or possession of these species in or from the South Atlantic EEZ is limited to the bag and possession limit. This bag and possession limit applies in the South Atlantic on board a vessel for which a valid Federal charter vessel/headboat permit for South Atlantic snapper-grouper has been issued, without regard to where such species were harvested, i.e. in state or Federal waters.

(B) If the combined commercial landings for this complex exceed the ACL, and at least one of the species in the other snappers complex is overfished, based on the most recent Status of U.S. Fisheries Report to Congress, the AA will file a notification with the Office of the Federal Register, at or near the beginning of the following fishing year to reduce the ACL for that following year by the amount of the overage in the prior fishing year.

(ii) Recreational sector. If the combined recreational landings for this snappers complex, as estimated by the SRD, exceed the recreational ACL of 882,388 lb (400,244 kg), round weight, then during the following fishing year, recreational landings will be monitored for a persistence in increased landings and, if necessary, the AA will file a notification with the Office of the Federal Register, to reduce the length of the following recreational fishing season by the amount necessary to ensure recreational landings do not exceed the recreational ACL for this complex in the following fishing year. However, the length of the recreational season will also not be reduced during the following fishing year if the RA determines, using the best scientific information available, that a reduction in the length of the following fishing season is unnecessary.

(17) Gray triggerfish—(i) Commercial sector. (A) If commercial landings for gray triggerfish, as estimated by the SRD, reach or are projected to reach the commercial ACL of 305,262 lb (138,465 kg), round weight, the AA will file a notification with the Office of the Federal Register to close the commercial sector for the remainder of the fishing year. On and after the effective date of such a notification, all sale or purchase of gray triggerfish is prohibited and harvest or possession of this species in or from the South Atlantic EEZ is limited to the bag and possession limit. This bag and possession limit applies in the South Atlantic on board a vessel for which a valid Federal charter vessel/headboat permit for South Atlantic snapper-grouper has been issued, without regard to where such species were harvested, i.e. in state or Federal waters.

(B) If commercial landings exceed the ACL, and gray triggerfish are overfished, based on the most recent Status of U.S. Fisheries Report to Congress, the AA will file a notification with the Office of the Federal Register, at or near the beginning of the following fishing year to reduce the ACL for that following year by the amount of the overage in the prior fishing year.

(ii) Recreational sector. If recreational landings for gray triggerfish, as estimated by the SRD, exceed the recreational ACL of 367,303 lb (166,606 kg), round weight, then during the following fishing year, recreational landings will be monitored for a persistence in increased landings and, if necessary, the AA will file a notification with the Office of the Federal Register, to reduce the length of the following recreational fishing season by the amount necessary to ensure recreational landings do not exceed the recreational ACL in the following fishing year. However, the length of the recreational season will also not be reduced during the following fishing year if the RA determines, using the best scientific information available, that a reduction in the length of the following fishing season is unnecessary.

(18) Wreckfish—(i) Commercial sector. The ITQ program for wreckfish in the South Atlantic serves as the accountability measures for commercial wreckfish. The commercial ACL for wreckfish is equal to the commercial quota specified in § 622.42(f).

(ii) Recreational sector. If recreational landings for wreckfish, as estimated by the SRD, exceed the recreational ACL of 12,500 lb (5,670 kg), round weight, then during the following fishing year, recreational landings will be monitored for a persistence in increased landings and, if necessary, the AA will file a notification with the Office of the Federal Register, to reduce the length of the following recreational fishing season by the amount necessary to ensure recreational landings do not exceed the recreational ACL in the following fishing year. However, the length of the recreational season will also not be reduced during the following fishing year if the RA determines, using the best scientific information available, that a reduction in the length of the following fishing season is unnecessary.

(19) Blue runner—(i) Commercial sector. (A) If commercial landings for blue runner, as estimated by the SRD, reach or are projected to reach the commercial ACL of 188,329 lb (85,425 kg), round weight, the AA will file a notification with the Office of the Federal Register to close the commercial sector for the remainder of the fishing year. On and after the effective date of such a notification, all sale or purchase of blue runner is prohibited and harvest or possession of this species in or from the South Atlantic EEZ is limited to the bag and possession limit. This bag and possession limit applies in the South Atlantic on board a vessel for which a valid Federal charter vessel/headboat permit for South Atlantic snapper-grouper has been issued, without regard to where such species were harvested, i.e. in state or Federal waters.

(B) If commercial landings exceed the ACL, and blue runner are overfished, based on the most recent Status of U.S. Fisheries Report to Congress, the AA will file a notification with the Office of the Federal Register, at or near the beginning of the following fishing year to reduce the ACL for that following year by the amount of the overage in the prior fishing year.

(ii) Recreational sector. If recreational landings for blue runner, as estimated by the SRD, exceed the recreational ACL of 1,101,612 lb (499,683 kg), round weight, then during the following fishing year, recreational landings will be monitored for a persistence in increased landings and, if necessary, the AA will file a notification with the Office of the Federal Register, to reduce the length of the following recreational fishing season by the amount necessary to ensure recreational landings do not exceed the recreational ACL in the following fishing year. However, the length of the recreational season will also not be reduced during the following fishing year if the RA determines, using the best scientific information available, that a reduction in the length of the following fishing season is unnecessary.

(20) Atlantic spadefish—(i) Commercial sector. (A) If commercial landings for Atlantic spadefish, as estimated by the SRD, reach or are projected to reach the commercial ACL of 36,476 lb (16,545 kg), round weight, the AA will file a notification with the Office of the Federal Register to close the commercial sector for the remainder of the fishing year. On and after the effective date of such a notification, all sale or purchase of Atlantic spadefish is prohibited and harvest or possession of this species in or from the South Atlantic EEZ is limited to the bag and possession limit. This bag and possession limit applies in the South Atlantic on board a vessel for which a valid Federal charter vessel/headboat permit for South Atlantic snapper-grouper has been issued, without regard to where such species were harvested, i.e. in state or Federal waters.

(B) If commercial landings exceed the ACL, and Atlantic spadefish are overfished, based on the most recent Status of U.S. Fisheries Report to Congress, the AA will file a notification with the Office of the Federal Register, at or near the beginning of the following fishing year to reduce the ACL for that following year by the amount of the overage in the prior fishing year.

(ii) Recreational sector. If recreational landings for Atlantic spadefish, as estimated by the SRD, exceed the recreational ACL of 246,365 lb (111,749 kg), round weight, then during the following fishing year, recreational landings will be monitored for a persistence in increased landings and, if necessary, the AA will file a notification with the Office of the Federal Register, to reduce the length of the following recreational fishing season by the amount necessary to ensure recreational landings do not exceed the recreational ACL in the following fishing year. However, the length of the recreational season will also not be reduced during the following fishing year if the RA determines, using the best scientific information available, that a reduction in the length of the following fishing season is unnecessary.

(21) Hogfish—(i) Commercial sector. (A) If commercial landings for hogfish, as estimated by the SRD, reach or are projected to reach the commercial ACL of 48,772 lb (22,123 kg), round weight, the AA will file a notification with the Office of the Federal Register to close the commercial sector for the remainder of the fishing year. On and after the effective date of such a notification, all sale or purchase of hogfish is prohibited and harvest or possession of this species in or from the South Atlantic EEZ is limited to the bag and possession limit. This bag and possession limit applies in the South Atlantic on board a vessel for which a valid Federal charter vessel/headboat permit for South Atlantic snapper-grouper has been issued, without regard to where such species were harvested, i.e. in state or Federal waters.

(B) If commercial landings exceed the ACL, and hogfish are overfished, based on the most recent Status of U.S. Fisheries Report to Congress, the AA will file a notification with the Office of the Federal Register, at or near the beginning of the following fishing year to reduce the ACL for that following year by the amount of the overage in the prior fishing year.

(ii) Recreational sector. If recreational landings for hogfish, as estimated by the SRD, exceed the recreational ACL of 98,866 lb (44,845 kg), round weight, then during the following fishing year, recreational landings will be monitored for a persistence in increased landings and, if necessary, the AA will file a notification with the Office of the Federal Register, to reduce the length of the following recreational fishing season by the amount necessary to ensure recreational landings do not exceed the recreational ACL in the following fishing year. However, the length of the recreational season will also not be reduced during the following fishing year if the RA determines, using the best scientific information available, that a reduction in the length of the following fishing season is unnecessary.

(22) Red porgy—(i) Commercial sector. (A) If commercial landings for red porgy, as estimated by the SRD, reach or are projected to reach the quota specified in § 622.42(e)(6), the AA will file a notification with the Office of the Federal Register to close the commercial sector for the remainder of the fishing year.

(B) If commercial landings exceed the ACL, and red porgy are overfished, based on the most recent Status of U.S. Fisheries Report to Congress, the AA will file a notification with the Office of the Federal Register, at or near the beginning of the following fishing year to reduce the ACL for that following year by the amount of the overage in the prior fishing year.

(ii) Recreational sector. If recreational landings for red porgy, as estimated by the SRD, exceed the recreational ACL of 197,652 lb (89,653 kg), round weight, then during the following fishing year, recreational landings will be monitored for a persistence in increased landings and, if necessary, the AA will file a notification with the Office of the Federal Register, to reduce the length of the following recreational fishing season by the amount necessary to ensure recreational landings do not exceed the recreational ACL in the following fishing year. However, the length of the recreational season will also not be reduced during the following fishing year if the RA determines, using the best scientific information available, that a reduction in the length of the following fishing season is unnecessary.

(23) Jolthead porgy, knobbed porgy, whitebone porgy, scup, and saucereye porgy complex—(i) Commercial sector. (A) If commercial landings for jolthead porgy, knobbed porgy, whitebone porgy, scup, and saucereye porgy, combined, as estimated by the SRD, reach or are projected to reach the commercial complex ACL of 35,129 lb (15,934 kg), round weight, the AA will file a notification with the Office of the Federal Register to close the commercial sector for this complex for the remainder of the fishing year. On and after the effective date of such a notification, all sale or purchase of jolthead porgy, knobbed porgy, whitebone porgy, scup, and saucereye porgy, is prohibited, and harvest or possession of these species in or from the South Atlantic EEZ is limited to the bag and possession limit. This bag and possession limit applies in the South Atlantic on board a vessel for which a valid Federal charter vessel/headboat permit for South Atlantic snapper-grouper has been issued, without regard to where such species were harvested, i.e. in state or Federal waters.

(B) If the combined commercial landings for this complex exceed the ACL, and at least one of the species in the complex is overfished, based on the most recent Status of U.S. Fisheries Report to Congress, the AA will file a notification with the Office of the Federal Register, at or near the beginning of the following fishing year to reduce the ACL for that following year by the amount of the overage in the prior fishing year.

(ii) Recreational sector. If recreational landings for jolthead porgy, knobbed porgy, whitebone porgy, scup, and saucereye porgy, combined, as estimated by the SRD, exceed the recreational ACL of 112,485 lb (51,022 kg), round weight, then during the following fishing year, recreational landings will be monitored for a persistence in increased landings and, if necessary, the AA will file a notification with the Office of the Federal Register, to reduce the length of the following recreational fishing season for this complex by the amount necessary to ensure recreational landings do not exceed the recreational ACL in the following fishing year. However, the length of the recreational season will also not be reduced during the following fishing year if the RA determines, using the best scientific information available, that a reduction in the length of the following fishing season is unnecessary.

(24) White grunt, sailor's choice, tomtate, and margate complex—(i) Commercial sector. (A) If commercial landings for white grunt, sailor's choice, tomtate, and margate, combined, as estimated by the SRD, reach or are projected to reach the commercial complex ACL of 214,624 lb (97,352 kg), round weight, the AA will file a notification with the Office of the Federal Register to close the commercial sector for this complex for the remainder of the fishing year. On and after the effective date of such a notification, all sale or purchase of white grunt, sailor's choice, tomtate, and margate, is prohibited, and harvest or possession of these species in or from the South Atlantic EEZ is limited to the bag and possession limit. This bag and possession limit applies in the South Atlantic on board a vessel for which a valid Federal charter vessel/headboat permit for South Atlantic snapper-grouper has been issued, without regard to where such species were harvested, i.e. in state or Federal waters.

(B) If the combined commercial landings for this complex exceed the ACL, and at least one of the species in the complex is overfished, based on the most recent Status of U.S. Fisheries Report to Congress, the AA will file a notification with the Office of the Federal Register, at or near the beginning of the following fishing year to reduce the ACL for that following year by the amount of the overage in the prior fishing year.

(ii) Recreational sector. If recreational landings for white grunt, sailor's choice, tomtate, and margate, as estimated by the SRD, exceed the recreational ACL of 562,151 lb (254,987 kg), round weight, then during the following fishing year, recreational landings will be monitored for a persistence in increased landings and, if necessary, the AA will file a notification with the Office of the Federal Register, to reduce the length of the following recreational fishing season for this complex by the amount necessary to ensure recreational landings do not exceed the recreational ACL in the following fishing year. However, the length of the recreational season will also not be reduced during the following fishing year if the RA determines, using the best scientific information available, that a reduction in the length of the following fishing season is unnecessary.

* * * * *

(e) Atlantic dolphin—(1) Commercial sector. If commercial landings for Atlantic dolphin, as estimated by the SRD, reach or are projected to reach the commercial ACL of 1,065,524 lb (483,314 kg), round weight, the AA will file a notification with the Office of the Federal Register to close the commercial sector for the remainder of the fishing year. On and after the effective date of such a notification, all sale or purchase of Atlantic dolphin is prohibited and harvest or possession of this species in or from the South Atlantic EEZ is limited to the bag and possession limit. This bag and possession limit applies in the South Atlantic on board a vessel for which a valid Federal charter vessel/headboat permit for South Atlantic snapper-grouper has been issued, without regard to where such species were harvested, i.e. in state or Federal waters.

(2) Recreational sector. If recreational landings for Atlantic dolphin, as estimated by the SRD, exceed the recreational ACL of 13,530,692 lb (6,137,419 kg), round weight, then during the following fishing year, recreational landings will be monitored for a persistence in increased landings and, if necessary, the AA will file a notification with the Office of the Federal Register, to reduce the length of the following recreational fishing season by the amount necessary to ensure recreational landings do not exceed the recreational ACL in the following fishing year. However, the length of the recreational season will also not be reduced during the following fishing year if the RA determines, using the best scientific information available, that a reduction in the length of the following fishing season is unnecessary.

(f) Atlantic wahoo—(1) Commercial sector. If commercial landings for Atlantic wahoo, as estimated by the SRD, reach or are projected to reach the commercial ACL of 64,147 lb (29,097 kg), round weight, the AA will file a notification with the Office of the Federal Register to close the commercial sector for the remainder of the fishing year. On and after the effective date of such a notification, all sale or purchase of Atlantic wahoo is prohibited and harvest or possession of this species in or from the South Atlantic EEZ is limited to the bag and possession limit. This bag and possession limit applies in the South Atlantic on board a vessel for which a valid Federal charter vessel/headboat permit for South Atlantic snapper-grouper has been issued, without regard to where such species were harvested, i.e. in state or Federal waters.

(2) Recreational sector. If recreational landings for Atlantic wahoo, as estimated by the SRD, exceed the recreational ACL of 1,427,638 lb (647,566 kg), round weight, then during the following fishing year, recreational landings will be monitored for a persistence in increased landings and, if necessary, the AA will file a notification with the Office of the Federal Register, to reduce the length of the following recreational fishing season by the amount necessary to ensure recreational landings do not exceed the recreational ACL in the following fishing year. However, the length of the recreational season will also not be reduced during the following fishing year if the RA determines, using the best scientific information available, that a reduction in the length of the following fishing season is unnecessary.

(g) South Atlantic golden crab. (1) If commercial landings for golden crab, as estimated by the SRD, reach or are projected to reach the ACL of 2 million lb (907,185 kg), the AA will file a notification with the Office of the Federal Register to close the golden crab fishery for the remainder of the fishing year. On and after the effective date of such a notification, all harvest, possession, sale or purchase of golden crab in or from the South Atlantic EEZ is prohibited.

(2) If commercial landings exceed the ACL, and golden crab are overfished, based on the most recent Status of U.S. Fisheries Report to Congress, the AA will file a notification with the Office of the Federal Register, at or near the beginning of the following fishing year to reduce the ACL for that following year by the amount of the overage in the prior fishing year.

14. In Appendix A to part 622, Table 4 is revised to read as follows:

Appendix A to Part 622—Species Tables

* * * * *

Table 4 of Appendix A to Part 622—South Atlantic Snapper-Grouper

Balistidae—Triggerfishes

Gray triggerfish, Balistes capriscus

Carangidae—Jacks

Blue runner, Caranx bartholomaei

Bar jack, Caranx ruber

Greater amberjack, Seriola dumerili

Lesser amberjack, Seriola fasciata

Almaco jack, Seriola rivoliana

Banded rudderfish, Seriola zonata

Ephippidae—Spadefishes

Spadefish, Chaetodipterus faber

Haemulidae—Grunts

Margate, Haemulon album

Tomtate, Haemulon aurolineatum

Sailor's choice, Haemulon parrai

White grunt, Haemulon plumieri

Labridae—Wrasses

Hogfish, Lachnolaimus maximus

Lutjanidae—Snappers

Black snapper, Apsilus dentatus

Queen snapper, Etelis oculatus

Mutton snapper, Lutjanus analis

Blackfin snapper, Lutjanus buccanella

Red snapper, Lutjanus campechanus

Cubera snapper, Lutjanus cyanopterus

Gray snapper, Lutjanus griseus

Mahogany snapper, Lutjanus mahogoni

Dog snapper, Lutjanus jocu

Lane snapper, Lutjanus synagris

Silk snapper, Lutjanus vivanus

Yellowtail snapper, Ocyurus chrysurus

Vermilion snapper, Rhomboplites aurorubens

Malacanthidae—Tilefishes

Blueline tilefish, Caulolatilus microps

Golden tilefish, Lopholatilus chamaeleonticeps

Sand tilefish, Malacanthus plumieri

Percichthyidae—Temperate basses

Wreckfish, Polyprion americanus

Serranidae—Groupers

Rock hind, Epinephelus adscensionis

Graysby, Epinephelus cruentatus

Speckled hind, Epinephelus drummondhayi

Yellowedge grouper, Epinephelus flavolimbatus

Coney, Epinephelus fulvus

Red hind, Epinephelus guttatus

Goliath grouper, Epinephelus itajara

Red grouper, Epinephelus morio

Misty grouper, Epinephelus mystacinus

Warsaw grouper, Epinephelus nigritus

Snowy grouper, Epinephelus niveatus

Nassau grouper, Epinephelus striatus

Black grouper, Mycteroperca bonaci

Yellowmouth grouper, Mycteroperca interstitialis

Gag, Mycteroperca microlepis

Scamp, Mycteroperca phenax

Yellowfin grouper, Mycteroperca venenosa

Serranidae—Sea Basses

Black sea bass, Centropristis striata

Sparidae—Porgies

Grass porgy, Calamus arctifrons

Jolthead porgy, Calamus bajonado

Saucereye porgy, Calamus calamus

Whitebone porgy, Calamus leucosteus

Knobbed porgy, Calamus nodosus

Red porgy, Pagrus pagrus

Scup, Stenotomus chrysops

The following species are designated as ecosystem component species:

Cottonwick, Haemulon melanurum

Bank sea bass, Centropristis ocyurus

Rock sea bass, Centropristis philadelphica

Longspine porgy, Stenotomus caprinus

Ocean triggerfish, Canthidermis sufflamen

Schoolmaster, Lutjanus apodus

* * * * *

[FR Doc. 2011-30743 Filed 11-30-11; 8:45 am]

BILLING CODE 3510-22-P